DEPARTMENT OF ENERGY

Federal Energy Regulatory Commission

[Project No. 2336-094]

Georgia Power Company; Notice of Revised Procedural Schedule for Environmental Assessment for the Proposed Project Relicense

On January 3, 2022, Georgia Power Company filed an application for a new license to continue to operate and maintain the 18-megawatt Lloyd Shoals Hydroelectric Project No. 2336 (Lloyd Shoals Project). On August 8, 2022, Commission staff issued a notice of intent to prepare an Environmental Assessment (EA) to evaluate the effects of relicensing the Lloyd Shoals Project. The notice of intent included a schedule for preparing a single EA.

By this notice, Commission staff is updating the procedural schedule for completing the EA. The revised schedule is shown below. Further revisions to the schedule may be made as appropriate.

Milestone | Target date
Issue EA | December 2023.

Any questions regarding this notice may be directed to Allan Creamer at (202) 502-8365, or by email at allan.creamer@ferc.gov.

Dated: October 26, 2023.
Debbie-Anne A. Reese,
Deputy Secretary.

[FR Doc. 2023-24096 Filed 10-31-23; 8:45 am]

BILLING CODE 6717-01-P